DEPARTMENT OF TRANSPORTATION

Federal Aviation Administration

Notice of Availability for Proposed Voluntary Agreement at Statue of Liberty National Monument and Governors Island National Monument

AGENCY: Federal Aviation Administration (FAA), Transportation.

ACTION: Notice of availability.

SUMMARY: The FAA, in cooperation with the National Park Service (NPS), has initiated development of a voluntary agreement pursuant to the National Parks Air Tour Management Act of 2000 (the Act) and its implementing regulations. The Act allows the FAA and NPS to enter into voluntary agreements with commercial air tour operators. A voluntary agreement manages commercial air tour operations over a national park by establishing conditions for the conduct of the commercial air tour operations. Implementation of a voluntary agreement helps protect park resources and the visitor experience without compromising aviation safety or the air traffic control system. This notice announces the public availability of the proposed voluntary agreement for Statue of Liberty National Monument and Governors Island National Monument (collectively referred to as the Parks).

DATES: Comments must be received on or before 30 days from this notice.

ADDRESSES: Comments will be received on the NPS Planning, Environment and Public Comment System (PEPC) website. The PEPC website for the Parks is: https://parkplanning.nps.gov/NYHarborAirTours.

FOR FURTHER INFORMATION CONTACT: Keith Lusk, Special Programs Staff, Federal Aviation Administration, Western-Pacific Region Headquarters, 777 S. Aviation Boulevard, Suite 150, El Segundo, CA 90245, telephone: (424) 405-7017, email: Keith.Lusk@faa.gov.

SUPPLEMENTARY INFORMATION: The FAA is issuing this notice pursuant to the National Parks Air Tour Management Act of 2000 (Pub. L. 106-181 (https://www.govinfo.gov/link/plaw/106/public/181?link-type=html)) and its implementing regulations contained in title 14, Code of Federal Regulations, part 136, subpart B, National Parks Air Tour Management. The Act requires that commercial air tour operators conducting or intending to conduct commercial air tours over a unit of the National Park system apply to the FAA for operating authority before engaging in that activity. The Act further requires the FAA and the NPS to establish an air tour management plan (ATMP) for each National Park System unit for which one or more applications has been submitted, unless that unit is exempt from this requirement. As an alternative to an ATMP, the FAA and the NPS may enter into a voluntary agreement with a commercial air tour operator who has applied to conduct commercial air tour operations over a national park including an operator that has interim operating authority for the park or a new entrant commercial air tour operator. Voluntary agreements must address the management issues necessary to protect the resources and visitor use of the park without compromising aviation safety or the air traffic control system. A voluntary agreement may also include conditions for the conduct of air tour operations and provisions to ensure the stability of and compliance with the voluntary agreement. Each voluntary agreement reflects the provisions and conditions appropriate for the particular national park to which the agreement applies.

A single voluntary agreement covers both Parks. Part 135 operators who have been granted interim operating authority for the Parks are included in this voluntary agreement and operators who apply for authority to conduct tours of the Parks will also be considered as part of the application process. Information on how to apply for authority is presented in the Frequently Asked Questions document that is available on the PEPC website shown above.

Written comments on the proposed voluntary agreement can be submitted via PEPC. Comments will not be accepted by fax, email, or any other way than those specified above. All written comments become part of the official record. Before including your address, phone number, email address, or other personal identifying information in your comment, you should be aware that your entire comment—including your personal identifying information—may be made publicly available at any time. While you can ask us in your comment to withhold your personal identifying information from public review, we cannot guarantee that we will be able to do so.

Issued in El Segundo, CA, on October 18, 2022.
Keith Lusk,
Program Manager, Special Programs Office, Western-Pacific Region.

[FR Doc. 2022-22889 Filed 10-20-22; 8:45 am]

BILLING CODE 4910-13-P